DEPARTMENT OF THE TREASURY

Submission for OMB Review; Comment Request

June 20, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 26, 2006 to be assured of consideration.

Financial Management Service

OMB Number: 1510-0045.

Type of Review: Extension.

Title: Trace Request for EFT Payments.

Form: FMS 150.1 and 150.2.

Description: Used to notify the FI that a beneficiary has claimed non-receipt of credit for a payment. The form is designed to help the FI locate any problem and to keep the beneficiary informed of any action taken.

Respondents: Business or other for-profit.

Estimated Total Burden Hours: 17,971 hours.

Clearance Officer: Jiovannah Diggs, Financial Management Service, Room 144, 3700 East West Highway, Hyattsville, MD 20782. (202) 874-7662.

OMB Reviewer: Alexander T. Hunt, Office of Management and Budget, Room 10235, New Executive Office Building, Washington, DC 20503. (202) 395-7316.

Michael A. Robinson,
Treasury PRA Clearance Officer.

[FR Doc. E6-10010 Filed 6-23-06; 8:45 am]

BILLING CODE 4810-35-P